DEPARTMENT OF ENERGY

Federal Energy Regulatory Commission

[Docket No. PF08-24-000]

Calais LNG Project Company, LLC; Notice of Intent To Prepare an Environmental Impact Statement for the Calais LNG Project, Request for Comments on Environmental Issues, and Notice of Public Scoping Meeting

November 20, 2008.

The Federal Energy Regulatory Commission (FERC or Commission) is in the process of evaluating the Calais LNG Project planned by Calais LNG Project Company, LLC (Calais). The project would consist of an onshore liquefied natural gas (LNG) import and storage terminal in Washington County, Maine, and about 20.5 miles natural gas sendout pipeline.

As a part of this evaluation, FERC staff will prepare an environmental impact statement (EIS) that will address the environmental impacts of the project. In cooperation with the FERC staff, the U.S. Department of Homeland Security, U.S. Coast Guard (Coast Guard) will assess the maritime safety and security of the project. This Notice of Intent (NOI) announces the opening of the scoping process the Commission will use to gather input from the public and interested agencies on the planned project. Your input will help determine which issues need to be evaluated in the EIS. Please note that the scoping period will close on December 22, 2008.

Comments regarding this project may be submitted in written form or verbally. Further details on how to submit written comments are provided in the Public Participation section of this NOI. In lieu of or in addition to sending written comments, we invite you to attend the public scoping meeting scheduled as follows:

Date and time | Location
December 4, 2008, 6 p.m. | Washington County Community College—Auditorium, One College Drive, Calais, ME 04619, 207-454-1000.

The Commission will use the EIS in its decision-making process to determine whether to authorize the project. The Coast Guard will assess the safety and security of the Calais LNG Project and issue a Letter of Recommendation. As described above, the FERC staff will hold a public scoping meeting to allow the public to provide input on these assessments. This NOI explains the scoping process that we ¹ will use to gather information on the project from the public and interested agencies, and summarizes the process that the Coast Guard will use. Your input will help identify the issues that need to be evaluated in the EIS and in the Coast Guard's safety and security assessment.

¹ “We,” “us,” and “our” refer to the environmental staff of the FERC's Office of Energy Projects.

The public scoping meeting listed above will be combined with the Coast Guard's public meeting regarding the maritime safety and security of the project. At the meeting, the Coast Guard will discuss: (1) The waterway suitability assessment that it will conduct to determine whether the waterway can safely accommodate the LNG vessel traffic and operation of the planned LNG marine terminal; and (2) the security assessment it will conduct in accordance with the requirements of the Maritime Transportation Security Act. The Coast Guard will not be issuing a separate meeting notice for the maritime safety and security aspects of the project.

The FERC will be the lead federal agency for the preparation of the EIS. The Coast Guard and the U.S. Army Corps of Engineers (Corps) will serve as cooperating agencies during preparation of the EIS. The document will satisfy the requirements of the National Environmental Policy Act of 1969 (NEPA). In addition, with this NOI, we are asking other Federal, State, and local agencies with jurisdiction and/or special expertise with respect to environmental issues to cooperate with us in the preparation of the EIS. These agencies may choose to participate once they have evaluated Calais's proposal relative to their responsibilities. Agencies that would like to request cooperating status should follow the instructions for filing comments described later in this NOI. Consultations have already been initiated with the Corps, and other State and/or Federal agencies. Consultations with these and other agencies will continue throughout the project review and permitting period. Corps staff will be in attendance at the scoping meeting.

This NOI is being sent to Federal, State, and local government agencies; elected officials; Canadian officials and agencies; affected landowners; environmental and public interest groups; Indian tribes and regional Native American organizations; other interested parties; and local libraries and newspapers. We encourage government representatives to notify their constituents of this planned project and encourage them to comment on their areas of concern.

If you are a landowner affected by the sendout pipeline receiving this NOI, you may be contacted by a Calais representative about the acquisition of an easement to construct, operate, and maintain the planned project facilities. The pipeline company would seek to negotiate a mutually acceptable agreement. However, if the project is approved by the FERC, that approval conveys with it the right of eminent domain for the sendout pipeline. Therefore, if easement negotiations fail to produce an agreement, the pipeline company could initiate condemnation proceedings in accordance with federal or state law.

A fact sheet prepared by the FERC entitled “An Interstate Natural Gas Facility On My Land? What Do I Need To Know?” addresses a number of typically asked questions, including the use of eminent domain and how to participate in the Commission's proceedings. It is available for viewing on the FERC Internet Web site (http://www.ferc.gov).

Summary of the Planned Project

Calais plans to construct and operate an LNG import terminal and storage facility, and associated natural gas sendout pipeline with a nominal capacity of 1.0 billion standard cubic feet of natural gas per day. The terminal would be located just north of Ford Point, approximately 6 miles southeast of the downtown area of the Town of Calais, on the St. Croix River, in Washington County, Maine.

More specifically, the facilities would consist of:

• A single berth marine LNG terminal, comprising breasting dolphins and mooring dolphins, and an unloading platform affixed to a pier about 1,000 feet long to accommodate LNG vessels ranging in cargo capacity from 120,000 to 170,000 cubic meters (m³);

• Three cargo unloading arms and one vapor return arm on the pier, with an unloading capacity rate of 12,000 m³ of LNG per hour;

• Two full-containment LNG storage tanks, each having a capacity of 160,000 m³;

• Boil-off gas and vapor handling system, and sendout pumps;

• LNG vaporization system to re-vaporize LNG to natural gas;

• Emergency generator and separate uninterruptible power supply system;

• Ancillary terminal facilities, including control building, maintenance building, warehouse, administration building, instrument air shed, electrical buildings, compressor building, marine electrical building/switch room, fire/water pump house, and gate house/security center;

• A sendout meter to provide custody transfer measurement to the pipeline;

• About 20.5 miles of 36-inch-diameter sendout pipeline, extending from the planned LNG terminal to the existing Maritimes & Northeast Pipeline, LLC pipeline system in Princeton, Maine; and

• A hazard monitoring system incorporating combustible gas detectors, low temperature detectors, smoke detectors, and three levels of shut-down controls.

A location map depicting the planned facilities, including its preferred pipeline route and three pipeline alternatives, is attached to this NOI as appendix 1. ²

² The appendices referenced in this notice are not being printed in the Federal Register. Copies are available on the Commission's Web site (excluding maps) at the “e-Library” link or from the Commission's Public Reference Room or call (202) 502-8371. For instructions on connecting to e-Library refer to the end of this notice. Copies of the appendices were sent to all those receiving this notice in the mail.

The EIS Process

The NEPA requires the Commission to take into account the environmental impacts that could result from an action when it considers whether or not to approve an LNG import terminal or an interstate natural gas pipeline. The FERC will use the EIS to consider the environmental impacts that could result if it issues project authorizations to Calais under sections 3 and 7 of the Natural Gas Act. The NEPA also requires us to discover and address concerns the public may have about proposals. This process is referred to as “scoping.” The main goal of the scoping process is to focus the analysis in the EIS on the important environmental issues. With this NOI, we are requesting public comments on the scope of the issues to be addressed in the EIS. All comments received will be considered during preparation of the EIS.

In the EIS we will discuss impacts that could occur as a result of the construction, operation, maintenance, and abandonment of the planned project under these general headings:

• Geology and Soils.

• Water Resources.

• Aquatic Resources.

• Vegetation and Wildlife.

• Threatened and Endangered Species.

• Land Use, Recreation, and Visual Resources.

• Cultural Resources.

• Socioeconomics.

• Marine Transportation.

• Air Quality and Noise.

• Reliability and Safety.

• Cumulative Impacts.

In the EIS, we will also evaluate possible alternatives to the planned project or portions of the project, and make recommendations on how to lessen or avoid impacts on affected resources.

Our independent analysis of the issues will be included in a draft EIS. The draft EIS will be mailed to federal, state, and local government agencies; elected officials; Canadian officials and agencies; affected landowners; environmental and public interest groups; Indian tribes and regional Native American organizations; commentors; other interested parties; local libraries and newspapers; and the FERC's official service list for this proceeding. A 45-day comment period will be allotted for review of the draft EIS. We will consider all comments on the draft EIS and revise the document, as necessary, before issuing a final EIS. We will consider all comments on the final EIS before we make our recommendations to the Commission. To ensure that your comments are considered, please follow the instructions in the Public Participation section of this NOI.

Although no formal application has been filed, the FERC staff has already initiated its NEPA review under its Pre-Filing Process. The purpose of the Pre-Filing Process is to encourage early involvement of interested stakeholders and to identify and resolve issues before an application is filed with the FERC. In addition, the Coast Guard, as a cooperating agency under NEPA, has initiated its review of the project as well.

Coast Guard Letter of Recommendation Process

The Coast Guard is responsible for matters related to navigation safety, vessel engineering and safety standards, and all matters pertaining to the safety of facilities or equipment located in or adjacent to navigable waters up to the last valve immediately before the receiving tanks. The Coast Guard also has authority for LNG facility security plan review, approval, and compliance verification as provided in title 33 of the Code of Federal Regulations 105 (33 CFR part 105), and as it pertains to the management of vessel traffic in and around the LNG facility.

Upon receipt of a letter of intent from an owner or operator intending to build a new LNG facility, the Coast Guard Captain of the Port (COTP) conducts an analysis that results in a Letter of Recommendation issued to the owner or operator and to the state and local governments having jurisdiction, addressing the suitability of the waterway to accommodate LNG vessels. Specifically the Letter of Recommendation addresses the suitability of the waterway based on:

• The physical location and a description of the facility arrangements;

• the LNG vessels' characteristics and the frequency of LNG shipments to the facility;

• charts showing waterway channels and identifying commercial, industrial, environmentally sensitive, and residential area in and adjacent to the waterway used by the LNG vessels en route to the facility (within 25 kilometers [15.5 miles] of the facility);

• density and character of the marine traffic in the waterway;

• locks, bridges, or other manmade obstructions in the waterway;

• depth of water;

• tidal range;

• natural hazards, including reef, rocks, and sandbars;

• underwater pipelines and cables; and

• distance of berthed vessels from the channel, and the width of the channel.

In addition, the Coast Guard will review and approve the facility's operations manual and emergency response plan (33 CFR 127.019), as well as the facility's security plan (33 CFR 105.410). The Coast Guard will also provide input to other federal, state, and local government agencies reviewing the project. Other agencies that must approve the project are the Corps, Maine Department of Environmental Protection, and the Maine Bureau of Parks and Lands.

In order to complete a thorough waterway suitability analysis and fulfill the regulatory mandates cited above, the COTP Sector Northern New England will be conducting a formal risk assessment evaluating the various safety and security aspects associated with the Calais LNG Project. This risk assessment will be accomplished through a series of workshops focusing on the areas of waterways safety, port security, and consequence management, with involvement from a broad cross-section of government and port stakeholders with expertise in each of the respective areas. The workshops will be by invitation only; however, comments received during the public comment period will be considered as input in the risk assessment process.

Currently Identified Environmental Issues

We have already identified issues that we think deserve attention based on a preliminary review of the project area and the planned facility information provided by Calais. This preliminary list of issues, which is presented below, may be revised based on your comments and our continuing analyses.

• Impact of LNG vessel traffic on other Passamaquoddy Bay and St. Croix River users, including fishing and recreational boaters.

• Safety and security issues relating to LNG vessel traffic, including transit through Head Harbor Passage and Western Passage of Passamaquoddy Bay, and the St. Croix River.

• Potential impacts on residents in the project area, including safety issues at the import and storage facility, noise, air quality, and visual resources.

• Project impacts on the Moosehorn National Wildlife Refuge and Saint Croix Island International Park.

• Project impacts on wetlands, vegetation, threatened and endangered species, and wildlife habitat.

• Project impacts on cultural resources.

Public Participation

You can make a difference by providing us with your specific comments or concerns about the planned project. By becoming a commentor, your concerns will be addressed in the EIS and considered by the Commission. Your comments should focus on the potential environmental effects, reasonable alternatives (including alternative facility sites and pipeline routes), and measures to avoid or lessen environmental impacts. The more specific your comments, the more useful they will be. To ensure that your comments are timely and properly recorded, please send in your comments so that they will be received in Washington, DC on or before December 22, 2008.

For your convenience, there are three methods which you can use to submit your comments to the Commission. In all instances please reference the project docket number with your submission. The docket number can be found on the front of this NOI. The Commission encourages electronic filing of comments and has dedicated eFiling expert staff available to assist you at (202) 502-8258 or eFiling@ferc.gov.

(1) You may file your comments electronically by using the Quick Comment feature, which is located on the Commission's Internet Web site at http://www.ferc.gov under the link to Documents and Filings. A Quick Comment is an easy method for interested persons to submit text-only comments on a project.

(2) You may file your comments electronically by using the eFiling feature, which is located on the Commission's Internet Web site at http://www.ferc.gov under the link to Documents and Filings. eFiling involves preparing your submission in the same manner as you would if filing on paper, and then saving the file on your computer's hard drive. You will attach that file as your submission. New eFiling users must first create an account by clicking on “Sign up” or “eRegister.” You will be asked to select the type of filing you are making. A comment on a particular project is considered a “Comment on a Filing.”

(3) You may file your comments via mail to the Commission by sending an original and two copies of your letter to: Kimberly D. Bose, Secretary, Federal Energy Regulatory Commission, 888 First Street, NE., Room 1A, Washington, DC 20426.

• Label one copy of the comments for the attention of Gas Branch 1, PJ-11.1.

• Reference Docket No. PF08-24-000 on the original and both copies.

The public scoping meeting (date, time, and location listed above) is designed to provide another opportunity to offer comments on the planned project. Interested groups and individuals are encouraged to attend the meeting and to present comments on the safety, security, and environmental issues that they believe should be addressed in the EIS. A transcript of the meeting will be generated so that your comments will be accurately recorded.

Environmental Mailing List

If you wish to remain on the environmental mailing list, please return the attached Mailing List Form (appendix 2). Also, indicate on the form your preference for receiving a paper version in lieu of an electronic version of the EIS on CD-ROM. If you do not return this form or provide comments, we will remove your name from our mailing list.

Additional Information

Once Calais formally files its application with the Commission, you may want to become an “intervenor,” which is an official party to the proceeding. Intervenors play a more formal role in the process and are able to file briefs, appear at hearings, and be heard by the courts if they choose to appeal the Commission's final ruling. An intervenor formally participates in a Commission proceeding by filing a request to intervene. Instructions for becoming an intervenor are included in the User's Guide under the “e-filing” link on the Commission's Web site. Please note that you may not request intervenor status at this time. You must wait until a formal application is filed with the Commission.

Additional information about the project is available from the Commission's Office of External Affairs, at 1-866-208-FERC (3372) or on the FERC Internet Web site (http://www.ferc.gov) using the “eLibrary link.” Click on the eLibrary link, select “General Search” and enter the project docket number excluding the last three digits (i.e., PF08-24) in the “Docket Number” field. Be sure you have selected an appropriate date range. For assistance with eLibrary, the eLibrary helpline can be reached at 1-866-208-3676, TTY (202) 502-8659, or by e-mail at FercOnlineSupport@ferc.gov. The eLibrary link on the FERC Internet Web site also provides access to the texts of formal documents issued by the Commission, such as orders, notices, and rule makings.

In addition, the FERC offers a free service called eSubscription that allows you to keep track of all formal issuances and submittals in specific dockets. This can reduce the amount of time you spend researching proceedings by automatically providing you with notification of these filings, document summaries, and direct links to the documents. To register for this service, go to http://www.ferc.gov/esubscribenow.htm.

Public meetings or site visits will be posted on the Commission's calendar located at http://www.ferc.gov/EventCalendar/EventsList.aspx along with other related information.

Finally, Calais has established an Internet Web site for this project at http://www.calaislng.com. The Web site includes a project overview, status, potential impacts and mitigation, and answers to frequently asked questions. You can also request additional information by calling Calais directly at (207) 214-7074 or visiting the Calais Office at 421 Main Street, Calais, ME.

Kimberly D. Bose,
Secretary.

[FR Doc. E8-28306 Filed 11-28-08; 8:45 am]

BILLING CODE 6717-01-P